DEPARTMENT OF THE TREASURY

Submission for OMB Review; Comment Request

August 18, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 22, 2003 to be assured of consideration.

Internal Revenue Service (IRS)

OMB Number: 1545-0087.

Form Number: 1040-ES, 1040-ES (NR), and 1040-ES(Espanol).

Type of Review: Extension.

Title: Form 1040-ES: Estimated Tax for Individuals;

Form 1040-ES (NR): U.S. Estimated Tax for Nonresident Alien Individuals;

Form 1040-ES (Espanol): Contribuciones Federales Estimadas Del Trabajo Por Cuenta Propia Y Sobre El Empleo de Empleados Domesticos—Puerto Rico.

Description: Form 1040-ES is used by individuals (including self-employed) to make estimated tax payments if their estimated tax due is $500 or more. IRS uses the data to credit taxpayers' accounts and to determine if estimated tax has been properly computed and timely paid.

Respondents: Individuals or households.

Estimated Number of Respondents/Recordkeepers: 14,563,250.

Estimated Burden Hours Respondent/Recordkeeper:

Form | Recordkeeping | Learning about the law | Prepearing the worksheets and payment vouchers | Copying, assembling, and sending the payment voucher to the IRS
1040-ES | 52 min. | 28 min. | 48 min. | 10 min.
1040-ES (NR) | 39 min. | 18 min. | 49 min. | 10 min.
1040-ES (Espanol) | 6 min. | 17 min. | 30 min. | 10 min.

Frequency of Response: Quarterly.

Estimated Total Reporting/Recordkeeping Burden: 94,591,282 hours.

OMB Number: 1545-0175.

Form Number: IRS Form 4626.

Type of Review: Revision.

Title: Alternative Minimum Tax—Corporations.

Description: Form 4626 is used by corporations to calculate their alternative minimum tax.

Respondents: Business or other for-profit.

Estimated Number of Respondents/Recordkeepers: 60,000.

Estimated Burden Hours Per Respondent/Recordkeeper:

Recordkeeping | 17 hr., 13 min.
Learning about the law or the form | 12 hr., 36 min.
Preparing and sending the form to the IRS | 13 hr., 27 min.

Frequency of Response: Annually.

Estimated Total Reporting/Recordkeeping Burden: 2,596,800 hours.

OMB Number: 1545-0938.

Form Number: IRS Form 1120-IC-DISC and Schedules.

Type of Review: Extension.

Title: 1120-IC-DISC: Interest Charge Domestic International Sales Corporation Return;

Schedule K (Form 1120-IC-DISC): Shareholder's Statement of IC-DISC Distributions; and

Schedule P (Form 1120-IC-DISC): Intercompany Transfer Price or Commission.

Description: U.S. corporations that have elected to be an interest charge domestic international sales corporation (IC-DISC) file Form 1120-IC-DISC to report their income and deductions. The IC-DISC is not taxed, but IC-DISC shareholders are taxed on their share of IC-DISC income. IRS uses Form 1120-IC-DISC to check the IC-DISC's computation of income. Schedule K (Form 1120-IC-DISC) is used to report income to shareholders. Schedule P (Form 1120-IC-DISC) is used by the IC-DISC to report its dealings with related suppliers, etc.

Respondents: Business or other for-profit.

Estimated Number of Respondents/Recordkeepers: 1,200.

Estimated Burden Hours Per Respondent/Recordkeeper:

Form | Recordkeeping | Learning about the law or the form | Preparing the form | Copying, assembling, and sending the form to the IRS
1120-IC-DISC | 94 hr., 56 min. | 20 hr., 0 min. | 30 hr., 48 min. | 2 hr., 24 min.
Schedule K | 4 hr., 4 min. | 18 min. | 22 min. |
Schedule P | 12 hr., 40 min. | 1 hr., 29 min. | 1 hr., 48 min. |

Frequency of Response: Annually.

Estimated Total Reporting/Recordkeeping Burden: 229,676 hours.

OMB Number: 1545-0976.

Form Number: IRS Form 990-W.

Type of Review: Extension.

Title: Estimated Tax on Unrelated Business Taxable Income for Tax-Exempt Organizations.

Description: Form 990-W is used by tax-exempt trusts and tax-exempt corporations to figure estimated tax liability on unrelated business income and on investment income for private foundations and the amount of each installment payment. Form 990-W is a worksheet only. It is not required to be filed.

Respondents: Not-for-profit institutions, Business of other for-profit.

Estimated Number of Respondents/Recordkeepers: 27,265.

Estimated Burden Hours Respondent/Recordkeeper:

Form | Recordkeeping | Learning about the law or the form | Preparing the form
Form 990-W | 10 hr., 2 min. | 1 hr., 40 min. | 1 hr., 55 min.
Form 990-W, Schedule A (Pt. I) | 11 hr., 14 min. | 42 min. | 54 min.
Form 990-W, Schedule A (Pt. II) | 23 hr., 26 min. | 12 min. | 35 min.
Form 990-W, Schedule A (Pt. III) | 4 hr., 32 min. |  | 4 min.

Frequency of Response: Annually.

Estimated Total Reporting/Recordkeeping Burden: 387,392 hours.

OMB Number: 1545-0991.

Form Number: IRS Form 8633.

Type of Review: Extension.

Title: Application to Participate in the IRS e-file Program.

Description: Form 8633 is used by tax preparers, electronic return collectors, software firms, service bureaus and electronic transmitters, as an application to participate in the electronic filing program covering individual income tax returns.

Respondents: Business of other for-profit, Not-for-profit institutions.

Estimated Number of Respondents: 50,000.

Estimated Burden Hours Respondent: 1 hour.

Estimated Total Reporting Burden: 50,000 hours.

OMB Number: 1545-1561.

Form Number: IRS Form 8853.

Type of Review: Extension.

Title: Archer MSAs and Long-Term Care Insurance Contracts.

Description: This form is used by individuals to report general information about their medical savings accounts (MSAs), to figure their MSA deductions, and to figure their taxable distributions from MSAs. The form is also used to report taxable payments from long-term care (LTC) contracts.

Respondents: Individuals or households.

Estimated Number of Respondents/Recordkeepers: 56,000.

Estimated Burden Hours Respondent/Recordkeeper:

Recordkeeping | 1 hr., 31 min.
Learning about the law or the form | 34 min.
Preparing the form | 1 hr., 42 min.
Copying, assembling, and sending the form to the IRS | 46 min.

Frequency of Response: Annually.

Estimated Total Reporting/Recordkeeping Burden: 100,795 hours.

OMB Number: 1545-1690.

Notice Number: Notice 2000-28.

Type of Review: Extension.

Title: Coal Exports.

Description: Notice 2000-28 provides guidance relating to the coal excise tax imposed by section 4121 of the Internal Revenue Code. The notice provides rules under the Code for making a nontaxable sale of coal for export or for obtaining a credit or refund when tax has been with respect to a nontaxable sale of coal for export.

Respondents: Business of other for-profit.

Estimated Number of Respondents/Recordkeeper: 400.

Estimated Burden Hours Respondent/Recordkeeper: 1 hour.

Frequency of Response: On occasion.

Estimated Total Reporting/Recordkeeping Burden: 400 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-21802 Filed 8-25-03; 8:45 am]

BILLING CODE 4830-01-P